DEPARTMENT OF HEALTH AND HUMAN SERVICES

Administration for Children and Families

Submission for OMB Review; Assets For Independence (AFI) Performance Progress Report (PPR) (OMB #0970-0483)

AGENCY: Office of Community Services; Administration for Children and Families; HHS.

ACTION: Request for public comment.

SUMMARY: The Office of Community Services (OCS), Administration for Children and Families (ACF) is requesting approval of a three-year extension of the Assets for Independence (AFI) Performance Progress Report (PPR) Long Form and AFI PPR Short Form (OMB #0970-0483, expiration 8/31/2019). There are no changes requested to the forms.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: The Assets for Independence (AFI) Act (Title IV of the Community Opportunities, Accountability, and Training and Educational Services Act of 1998, Public Law 105-285, [42 U.S.C. 604]) requires that organizations operating AFI projects submit semi-annual progress reports.

OCS will continue collecting key information about projects funded through the AFI program. The AFI PPR will continue to collect data on project activities and attributes, where OCS will use the data to critically review the overall design and effectiveness of the program. OCS will use the data collected in the AFI PPR to prepare the annual AFI Report to Congress, to evaluate and monitor the performance of the AFI Program overall and of individual projects, and to inform and support technical assistance efforts. The AFI PPR will continue to fulfill AFI Act reporting requirements and program purposes.

AFI program grantees are required to submit Standard Form Performance Progress Reports (SF-PPR) semiannually: One time per year using an abbreviated short form and one time using a long form. Both data collection instruments are available for review online at:

https://www.acf.hhs.gov/ocs/resource/afi-ppr-long-form,

https://www.acf.hhs.gov/ocs/resource/afi-ppr-short-form.

Note: This request does not affect financial reporting requirements for AFI grantees. The SF-425 will still be required semiannually throughout the grant project period with a final report due 90 days after the grant project period ends.

Respondents: Assets for Independence (AFI) program grantees.

Annual Burden Estimates
Instrument | Total number of respondents | Annual number of responses per respondent | Average burden hours per response | Annual burden hours
AFI PPR Short Form | 145 | 1 | 0.5 | 72.5
AFI PPR Long Form | 145 | 1 | 3.8 | 551

Estimated Total Annual Burden Hours: 623.5.

Authority: Pub. L. 105-285, [42 U.S.C. 604].

Mary B. Jones,
ACF/OPRE Certifying Officer.

[FR Doc. 2019-15731 Filed 7-23-19; 8:45 am]

BILLING CODE 4184-24-P